DEPARTMENT OF ENERGY

Federal Energy Regulatory Commission

[Docket No. CP05-361-000]

Freeport LNG Development, L.P.; Notice of Intent To Prepare an Environmental Assessment for the Proposed Freeport LNG Phase II Project and Request for Comments on Environmental Issues

July 19, 2005.

The staff of the Federal Energy Regulatory Commission (FERC or Commission) will prepare an environmental assessment (EA) that will discuss the environmental impacts of Freeport LNG Development, L.P.'s (Freeport LNG) proposal to site, construct, and operate the following additional facilities at its liquefied natural gas (LNG) import terminal on Quintana Island, Brazoria County, Texas: (1) An additional marine berthing dock and associated unloading facilities for LNG ships, (2) new and expanded vaporization systems; and (3) an additional LNG storage tank.

These facilities would constitute Freeport LNG's “Phase II Project” which would complement the “Phase I Project” that was authorized by the Commission on June 18, 2004 in Docket No. CP03-75-000. The Phase I Project is currently under construction. The Freeport LNG Phase II Project would increase the LNG import terminal's planned send-out capacity from 1.5 billion cubic feet per day (Bcfd) to 4.0 Bcfd and the number of LNG ships from 200 to 400 ships per year.

This notice announces the opening of the scoping period that will be used to gather environmental input from the public and interested agencies on the project. Please note that the scoping period will close on August 22, 2005. Details on how to submit comments are provided in the Public Participation section of this notice.

This notice is being sent to potentially affected landowners; Federal, state, and local government agencies; elected officials; environmental and public interest groups; Native American Tribes, other interested parties; local libraries and newspapers. State and local government representatives are asked to notify their constituents of this planned project and encourage them to comment on their areas of concern.

A fact sheet prepared by the FERC entitled “An Interstate Natural Gas Facility On My Land? What Do I Need To Know?” is available for viewing on the FERC Web site (http://www.ferc.gov). This fact sheet addresses a number of typically asked questions, including how to participate in the Commission's proceedings.

Summary of Proposed Project

In the Commission's June 18, 2004 Order for the Phase I Project, Freeport LNG was authorized to construct and operate an LNG import terminal consisting of a single LNG ship berth, two LNG storage tanks, associated vaporization facilities, and a 9.6-mile-long natural gas send-out pipeline.¹ The Freeport LNG Phase II Project would require removal of an abandoned barge dock and the dredging of a second ship berth adjacent to the Phase I berth, expansion of the Phase I vaporization facilities and utility systems to accommodate the increased terminal capacity, and construction of a third LNG tank west of and adjacent to the Phase I storage tanks. The Freeport LNG Phase II facilities would be adjacent to or within the boundary of the Phase I site. The location of the Phase I and Freeport LNG Phase II site boundaries are shown on the map in Appendix 1.²

¹ On April 1, 2005, Freeport LNG filed an amendment to its Phase I Project and requested authorization to change the diameter of its previously approved pipeline from 36 inches to 42 inches. This proposal will be the focus of a separate environmental review. The Notice of Intent to Prepare an Environment Assessment for this proposal was issued on June 13, 2005.

² The appendices referenced in this notice are not being printed in the Federal Register. Copies of all appendices, other than appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Land Requirements for Construction

The Freeport LNG Phase II Project would affect a total of 94.4 acres of land and water. Of this total, approximately 38.3 acres (34.7 acres of land and 3.6 acres of water) would be new impacts (i.e., not affected by Phase I construction activities). Of the new area to be disturbed, 13.2 acres would be temporary impacts and 25.1 acres would be permanently impacted for operation.

Non-Jurisdictional Facilities

Freeport LNG also proposes to develop an underground natural gas storage facility at Stratton, near the end of the Phase I send-out pipeline. This facility would include the following major components: two salt dome natural gas storage caverns, two well pads and two well heads, one salt dome test well, one natural gas handling facility, one solution mining plant, two natural gas pipelines totaling 1.51 miles, two raw water disposal pipelines totaling 1.92 miles, two brine disposal pipelines totaling 1.92 miles, and one diesel pipeline totaling 0.46 mile. Construction of these facilities would affect approximately 50.7 acres of open land, and an additional 9.6 acres of land that would be disturbed as part of construction of the Phase I send-out pipeline. Approximately 25 acres would be permanently impacted by operation. This natural gas storage facility would be authorized and regulated by the Texas Railroad Commission.

The EA Process

We³ are preparing this EA to comply with the National Environmental Policy Act (NEPA) which requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this Notice of Intent, the Commission staff requests public comments on the scope of the issues to address in the EA. All comments received are considered during the preparation of the EA. By this notice, we are also asking Federal, state, and local agencies with jurisdiction and/or special expertise with respect to environmental issues to formally cooperate with us in the preparation of the EA. Agencies that would like to request cooperating status should follow the instructions for filing comments below.

³ ”We”, “us”, and “our” refer to the environmental staff of the Office of Energy Projects (OEP).

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

Currently Identified Environmental Issues

We have already identified several issues that we think deserve attention based on a preliminary review of the proposed modifications and the environmental information provided by Freeport LNG. The following list of issues may be changed based on your comments and our analysis:

• Effects of dredging and disposal of 754,000 cubic yards of material to expand the existing berth area and an additional 144,000 cubic yards of surface materials;

• Additional sedimentation associated with the additional dredging; and

• Impacts associated with the additional LNG ship traffic on the Freeport Harbor Channel.

We will also evaluate possible alternatives to the proposed project or portions of the project and make recommendations on how to lessen or avoid impacts on the various resource areas.

Public Participation

You can make a difference by providing us with your specific comments or concerns about the project. By becoming a commentor, your concerns will be addressed in the EA and considered by the Commission. You should focus on the potential environmental effects of the proposal, alternatives to the proposal (including alternative locations and routes), and measures to avoid or lessen environmental impact. The more specific your comments, the more useful they will be. Please carefully follow these instructions to ensure that your comments are received in time and properly recorded:

• Send an original and two copies of your letter to: Magalie R. Salas, Secretary, Federal Energy Regulatory Commission, 888 First St., NE., Room 1A, Washington, DC 20426.

• Label one copy of the comments for the attention of Gas Branch 2.

• Reference Docket Number CP05-361-000.

• Mail your comments so that they will be received in Washington, DC on or before August 22, 2005.

Please note that the Commission strongly encourages electronic filing of any comments or interventions or protests to this proceeding. See 18 CFR 385.2001(a)(1)(iii) and the instructions on the Commission's Web site at http://www.ferc.gov under the “e-Filing” link and the link to the User's Guide. Before you can file comments, you will need to create and account which can be created on-line.

Becoming an Intervenor

In addition to involvement in the EA scoping process, you may want to become an official party to the proceeding known as an “intervenor”. Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding. If you want to become an intervenor you must file a motion to intervene according to Rule 214 of the Commission's Rules of Practice and Procedure (18 CFR 385.214, see Appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your environmental comments considered.

Environmental Mailing List

If you wish to remain on our environmental mailing list, please return the Information Request Form included in Appendix 3. If you do not return this form, you will be removed from our mailing list.

Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TYY, contact (202)502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Magalie R. Salas,
Secretary.

[FR Doc. E5-3962 Filed 7-25-05; 8:45 am]

BILLING CODE 6717-01-P